DEPARTMENT OF JUSTICE

Office of Justice Programs

[OMB No. 1121-NEW]

Agency Information Collection Activities: Proposed Collection; Comments Requested Methodological Research To Support the National Crime Victimization Survey: Self-Report Data on Rape and Sexual Assault—Pilot Test

ACTION: 30-day notice.

The Department of Justice (DOJ), Office of Justice Programs, Bureau of Justice Statistics will be submitting the following information collection request to the Office of Management and Budget (OMB) for review and approval in accordance with the Paperwork Reduction Act of 1995. The proposed information collection is published to obtain comments from the public and affected agencies. This proposed information collection was previously published in the Federal Register Volume 78, Number 159, page 50111 on Friday August 16, 2013 allowing for a 60 day comment period. No comments were received in response to the information provided.

The purpose of this notice is to allow for an additional 30 days for public comment until December 9, 2013. This process is conducted in accordance with 5 CFR 1320.10.

Written comments and/or suggestions regarding the items contained in this notice, especially the estimated public burden or associated response time, should be directed to The Officer of Management and Budget, Officer of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of this information collection:

(1) Type of information collection: New collection under activities related to the National Crime Victimization Survey Redesign Research (NCVS-RR) program: Methodological Research to Support the National Crime Victimization Survey: Self-Report Data on Rape and Sexual Assault—Pilot Test.

(2) Title of the Form/Collection: National Survey on Health and Safety (NSHS).

(3) Agency form number, if any, and the applicable component of the department sponsoring the collection: NSHS1; NSHS2; NSHS3; and NSHS4, Bureau of Justice Statistics, Office of Justice Programs, Department of Justice.

(4) Affected public who will be asked or required to respond, as well as a brief abstract. Primary: Females ages 18 or older in 5 Core Based Statistical Areas (CBSAs) in the United States. These CBSAs include—

• New York-Northern New Jersey-Long Island, NY-NJ-PA;

• Los Angeles-Long Beach-Santa Ana, CA;

• Miami-Fort Lauderdale-Pompano Beach, FL;

• Dallas-Fort Worth-Arlington-TX; and

• Phoenix-Mesa-Glendale, AZ.

The NSHS will test alternative survey methods for measuring rape and sexual assault and develop improved collection procedures for these crimes.

(5) An estimate of the total number of respondents and the amount of time estimated for an average respondent to respond/reply:

• Approximately 50 victim service agencies, and 100 universities and colleges will be contacted to serve as liaisons between potential respondents about the survey. The average length of contact with these agencies is approximately 120 minutes per agency for a total of 300 burden hours.

• Approximately, 76,740 households will be contacted to screen for eligible participants. The expected burden placed on these households is 4 minutes per household for a total of 5,116 burden hours.

• Approximately 19,320 females ages 18 or older will be interviewed for eligibility in the NSHS. The majority of respondents, approximately 17,968 (93%), will be administered only the screening portion of the NSHS which is designed to filter out those females who have not experienced rape or sexual assault. The expected burden placed on these respondents is 18 minutes per respondent for a total of 5,796 burden hours.

• The complement of this group of respondents will be 1,352 (7%) identified victims of rape or sexual assault. The expected burden placed on these respondents is 15 minutes for a total of 338 burden hours.

(6) An estimate of the total public burden (in hours) associated with the collection: The total respondent burden is approximately 11,867 hours.

If additional information is required contact Jerri Murray, Department Clearance Officer, United States Department of Justice, Justice Management Division, Policy and Planning Staff, Two Constitution Square, 145 N Street NE., Room 3W-1407B, Washington, DC 20530.

Dated: November 4, 2013.
Jerri Murray,
Department Clearance Officer for PRA, United States Department of Justice.

[FR Doc. 2013-26687 Filed 11-6-13; 8:45 am]

BILLING CODE 4410-18-P